ENVIRONMENTAL PROTECTION AGENCY

[ER-FRL-6613-9]

Environmental Impact Statements and Regulations; Availability of EPA Comments

Availability of EPA comments prepared December 4, 2000 Through December 8, 2000 pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-L67039-ID Rating EO2, El Luky Duk Gold Suction Dredging, Proposal to Mine Gold, Plan-of-Operation, Implementation, Nez Perce National Forest, Red River Ranger District, ID.

Summary

EPA expressed objections due to the potential of the project to further degrade water quality and fish habitat in the South Fork Clearwater River, a listed water body due to sediment, temperature, and habitat alteration. EPA recommend that the EIS better quantify the risk to water quality, listed species, and their habitats from proposed suction dredging and demonstrate that water quality standards (e.g., turbidity) could be met at “end-of-pipe” allowing for the issuance of an NPDES permit.

ERP No. D-JUS-L81012-WA Rating EC2, Tacoma/Seattle Area Detention Center, Construction and Leasing, Pierce County, WA.

Summary

EPA expressed concerns regarding the manner in which the proposed action alternatives were evaluated, how stormwater runoff would be managed, the lack of a clear strategy for site remediation, and the failure to initiate consultations with potentially affected Native American Tribes. EPA requested that the EIS be revised to better differentiate the potential effects of the action alternatives, clarify how stormwater discharges would be controlled, explain the relationship of hazardous waste cleanup to the site selection process, and reflect that appropriate consultations with the Nisqually and Puyallup Tribes have taken place.

ERP No. D-NPS-K61151-CA Rating LO, Lassen Volcanic National Park General Management Plan, Implementation, Lassen, Plumas, Shasta and Tehama Counties, CA.

Summary

EPA expressed no objection to the proposed action. However, EPA requested the inclusion of a cumulative impacts analysis and additional information on proposed actions and environmental impacts.

ERP No. D-UAF-G11039-TX Rating LO, Brooks City Base Project, To Improve Mission Effectiveness and Reduce Cost of Quality Installation Support, Implementation, Brooks Air Force Base, Bexar County, TX.

Summary

EPA expressed no objection to the lead agency's proposed action. EPA requested some additional information to be included in the FEIS to strengthen the document.

ERP No. DR-NPS-K65212-CA Rating LO, Mojave National Preserve General Management Plan, Revised and New Alternatives the Proposed Management Approach and Two Alternatives for the Management of the 1.6 Million-Acre, Implementation, San Bernardio County, CA.

Summary

While EPA had no objection to the proposed action, EPA did request that the Final EIS include a more thorough description of the impacts to water resources and projections of future visitor use and traffic levels.

ERP No. DS-FTA-L40210-WA Rating NS, Central Link Light Rail Transit Project, (Sound Transit), Construction and Operation, Alternative Route Considered, Tukwila Freeway Route, COE Section 10 and 404 Permits, Cities of Tukwila, SeaTac, Seattle, King County, WA.

Summary

EPA Region 10 used a screening tool to conduct a limited review of this action. Based upon this screen, EPA does not foresee having any environmental objections to the proposed project. Therefore, EPA did not conduct a detailed review.

ERP No. DS-NPS-K65209-00 Rating LO, Death Valley National Park General Management Plan, Proposed Management Approach and Two Alternatives for the Management of the 3.3 Million Acres, Implementation, Mojave Desert, Inyo and San Bernardino Counties, CA and Nye and Esmeralda Counties, NV.

Summary

While EPA had no objection to the proposed action, EPA did request that the Final EIS include a comparison of current and expected levels of visitor activity and how changes in visitor use will be accomodated in area specific plans.

Final EISs

ERP No. F-AFS-J67028-MT Rocky Mountain Front Mineral Withdrawal, Implementation, Helena and Lewis and Clark National Forests, Great Falls, MT.

Summary:

EPA had no objection with the proposed action.

ERP No. F-AFS-L65362-ID West Mountain North Project, Timber Harvest, Road Construction and Reconstruction), Boise National Forest, Cascade Ranger District, Valley County, ID.

Summary

No formal comment letter was sent to the preparing agency.

ERP No. F-COE-H36109-MO Chesterfield Valley Flood Control Study, Improvement Flood Protection, City of Chesterfield, St. Louis County, MO.

Summary

EPA continues to express objections over three significant issues, cumulative impacts, floodplain management issues, and project alternatives.

Dated: December 19, 2000.
Joseph C. Montgomery,
Director, NEPA Compliance Division, Office of Federal Activities.

[FR Doc. 00-32771 Filed 12-21-00; 8:45 am]

BILLING CODE 6560-50-U